DEPARTMENT OF EDUCATION

Notice Inviting Applications for Proprietary Institutions Under the Higher Education Emergency Relief Fund (HEERF), Section 314(a)(4); Coronavirus Response and Relief Supplemental Appropriations Act, 2021 (CRRSAA); Correction

AGENCY: Office of Postsecondary Education, Department of Education.

ACTION: Notice; correction.

SUMMARY: On January 15, 2021, the Department published a notice in the Federal Register inviting applications (NIA) from eligible proprietary institutions listed on the Department's section 314(a)(4) allocation table to apply for funding under the Proprietary Institution Grant Funds for Students program, Catalog of Federal Domestic Assistance (CFDA) number 84.425Q. This notice corrects the Grants.gov Opportunity Number and the OMB control number associated with this collection, and clarifies the deadline date for transmittal of applications. All other information in the NIA, including the April 15, 2021, deadline for transmittal of applications, remains the same.

DATES: This correction is applicable January 22, 2021.

FOR FURTHER INFORMATION CONTACT: Karen Epps, U.S. Department of Education, 400 Maryland Avenue SW, Room 250-64, Washington, DC 20202. Telephone: The Department of Education HEERF Call Center at (202) 377-3711. Email: HEERF@ed.gov. Please also visit our HEERF website at: https://www2.ed.gov/about/offices/list/ope/crrsaa.html.

If you use a telecommunications device for the deaf (TDD) or a text telephone (TTY), call the Federal Relay Service (FRS), toll free, at 1-800-877-8339.

SUPPLEMENTARY INFORMATION: On Jaunary 15, 2021, we published in the Federal Register an NIA for Proprietary Institutions for the HEERF section 314(a)(4) program (86 FR 4010). This notice specifies that the correct Grants.gov Opportunity Number is ED-GRANTS-011521-005 and that the OMB control number associated with this collection is 1840-0852, and clarifies the deadline date for transmittal of applications. All other requirements and conditions in the NIA remains the same.

Corrections

In FR Doc. 2021-00936 appearing on page 4010 of the Federal Register of January 15, 2021, the following corrections are made:

1. On page 4010, in the third column, under Summary and after “This notice relates to the approved information collection under OMB control number”, we remove “XXXX-XXXX” and add in its place “1840-0852”.

2. On page 4011, in the second column, under “IV. Application Submission and Information” and after “1. Application Sumbission Instructions”, we remove the sentence “The Grants.gov Funding Opportunity Numbers are ED-GRANTS-041020-003 for the Student Aid Portion and ED-GRANTS-042120-004 for the Institutional Portion” and add in its place “The Grants.gov Funding Opportunity Number is ED-GRANTS-011521-005.”

3. On page 4011, in the second column, under “IV. Application Submission and Information” and after “1. Application Sumbission Instructions”, we remove “XXX Date [90 days after publication]” and add in its place “April 15, 2021”.

Program Authority: Section 314 of the Coronavirus Response and Relief Supplemental Appropriations Act, 2021.

Accessible Format: On request to the contact person listed under FOR FURTHER INFORMATION CONTACT, individuals with disabilities can obtain this notice, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Christopher J. McCaghren,
Acting Assistant Secretary for Postsecondary Education.

[FR Doc. 2021-01531 Filed 1-21-21; 8:45 am]

BILLING CODE 4000-01-P